DEPARTMENT OF HOUSING AND URBAN DEVELOPMENT

[Docket No. FR-4566 N-07]

Notice of Proposed Information Collection: Comment Request, 2000 Survey of Homeless Residential Service Providers

AGENCY: Office of the Assistant Secretary for Community Planning and Development, HUD.

ACTION: Notice.

SUMMARY: The Proposed information collection requirement described below will be submitted to the Office of Management and Budget (OMB) for review, as required by the Paperwork Reduction Act. The Department is soliciting public comments on the subject proposal.

DATES: Comment Due Date: September 5, 2000.

ADDRESSES: Interested persons are invited to submit comments regarding this proposal. Comments should refer to the proposal by name and/ or OMB Control Number and should be sent to: Sheila Jones, Reports Liaison Officer, Department of Housing and Urban Development, 451 7th Street, SW., Room 7232, Washington, DC 20410

FOR FURTHER INFORMATION CONTACT: Mr. Michael Roanhouse (202) 708-1226 telephone number (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: 2000 Survey of Homeless Residential Service Providers.

OMB Control Number, if applicable: N/A.

Description of the need for the information and proposed use:

In 2000, the Department of Housing and Urban Development will undertake a survey of homeless residential service providers in 15 jurisdictions including Atlanta, Ga, Columbus, OH, Grand Rapids, MI, Kansas City, MO, Lafayette, IN, New York City, NY, Philadelphia, PA, San Diego, CA, Spokane, WA, St. Louis, MO, St. Paul, MN, Washington, DC, Montgomery County, MD, State of Massachusetts, and State of Rhode Island. The survey is designed to collect data from providers on the types of services being offered, the number and types of staff employed, the characteristics of the program and its clients, and the provider's sources of revenue. The survey will provide information about the current operation of residential service programs assisting homeless persons in the 15 jurisdictions.

Homeless residential service providers offering emergency shelter, transitional housing, or permanent supportive housing in the 15 jurisdictions will be surveyed by mail. They will be asked to identify their program type and report on their program characteristics including staffing pattern and target population, clients' social-demographic profile, service provision, physical and architectural features of living accommodation, program structure and policy, and sources of revenue. In addition, providers will be asked to report their annual and seasonal capacity, as well as the capacity of their services in 1987 as a baseline of service capacity.

Agency form numbers, if applicable: None.

Members of affected public: Government (state and local), non-profit, and for-profit homeless residential service programs.

Estimation of the total numbers of hours needed to prepare the information collection including number of respondents, frequency of response, and hours of response:

Type of Review: Regular submission.

Estimated Number of Respondents: 1000.

Estimated Time Per Response: Approximately 2 hours.

Status of the proposed information collection: Method of Collection-Homeless residential service providers will be asked to complete and return a self-administered mail questionnaire.

Authority: The Paperwork Reduction Act of 1995, 44 U.S.C Chapter 35, as amended.

Comments submitted in response to this notice will be summarized and/or included in the request for OMB approval of this information collection; they also will become a matter of public record.

Dated: June 28, 2000.
Joseph D'Agosta,
General Deputy Assistant Secretary for Community Planning and Development.

[FR Doc. 00-16805 Filed 7-3-00; 8:45 am]

BILLING CODE 4210-29-M